FEDERAL COMMUNICATIONS COMMISSION

[OMB 3060-0754; FRS 16357]

Information Collection Approved by the Office of Management and Budget

AGENCY: Federal Communications Commission.

ACTION: Notice.

SUMMARY: The Federal Communications Commission (FCC) has received Office of Management and Budget (OMB) approval for the following public information collections pursuant to the Paperwork Reduction Act of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed below.

FOR FURTHER INFORMATION CONTACT: Kathy Berthot, Policy Division, Media Bureau, at (202) 418-7454, or email: Kathy.Berthot@fcc.gov.

SUPPLEMENTARY INFORMATION:

OMB Control No.: 3060-0754.

OMB Approval Date: 12/18/2019.

Expiration Date: 12/31/2022.

Title: FCC Form 2100, Application for Media Bureau Audio and Video Service Authorization, Schedule H.

Form Number: FCC Form 2100, Schedule H.

Type of Review: Revision of a currently approved collection.

Respondents: Business or other for profit entities.

Number of Respondents: 1,758 respondents; 1,758 responses.

Estimated Time per Response: 10 hours.

Frequency of Response: Recordkeeping requirement: Annual reporting requirement.

Obligation to Respond: Required to obtain or retain benefits. Statutory authority for these collections is contained in Sections 54(i) and 303 of the Communications Act of 1934, as amended.

Total Annual Burden: 17,580 hours.

Total Annual Cost: $1,054,800.

Privacy Impact Assessment: No impact.

Nature and Extent of Confidentiality: There is no need for confidentiality with respect to this collection of information.

Needs and Uses: Commercial full-power and Class A television broadcast stations are required to file FCC Form 2100, Schedule H (formerly FCC Form 398) (Children's Television Programming Report) within 30 days after the end of each calendar year. FCC Form 2100, Schedule H is a standardized form that: (a) Provides a consistent format for reporting the children's educational television programming aired by licensees to meet their obligation under the Children's Television Act of 1990 (CTA), and (b) facilitates efforts by the public and the FCC to monitor compliance with the CTA.

Commercial full-power and Class A television stations are required to complete FCC Form 2100, Schedule H within 30 days after the end of each calendar year and file the form with the Commission. The Commission places the form in the station's online public inspection file maintained on the Commission's database (www.fcc.gov). Stations use FCC Form 2100, Schedule H to report, among other things, the Core Programming (i.e., children's educational and informational programming) the station aired the previous calendar year. FCC Form 2100, Schedule H also includes a “Preemption Report” that must be completed for each Core Program that was preempted during the year. This “Preemption Report” requests information on the reason for the preemption, the date of each preemption, the reason for the preemption and, if the program was rescheduled, the date and time the program was re-aired.

On July 10, 2019, the Commission adopted a Report and Order in MB Docket Nos. 18-202 and 17-105, FCC 19-67, In the Matter of Children's Television Programming Rules; Modernization of Media Regulation Initiative, which modernizes the children's television programming rules in light of changes to the media landscape that have occurred since the rules were first adopted. Among other revisions, the Report and Order revises the children's television programming rules to expand the Core Programming hours to 6:00 a.m. to 10:00 p.m.; modify the safe harbor processing guidelines for determining compliance with the children's programming rules; require that broadcast stations air the substantial majority of their Core Programming on their primary program streams, but permit broadcast stations to air up to 13 hours per quarter of regularly scheduled weekly programming on a multicast stream; eliminate the additional processing guideline applicable to stations that multicast; and modify the rules governing preemption of Core Programming. In addition, the Report and Order revises the children's television programming reporting requirements by requiring that Children's Television Programming Reports (FCC Form 2100, Schedule H) be filed on an annual rather than quarterly basis, within 30 days after the end of the calendar year; eliminating the requirements that the reports include information describing the educational and informational purpose of each Core Program aired during the current reporting period and each Core Program that the licensee expects to air during the next reporting period; eliminating the requirement to identify the program guide publishers who were sent information regarding the licensee's Core Programs; and streamlining the form by eliminating certain fields. The Report and Order also eliminates the requirement to publicize the Children's Television Programming Reports. The Report and Order directs the Media Bureau to make modifications to FCC Form 2100, Schedule H as needed to conform the form with the revisions to the children's programming rules, including the changes to the processing guidelines and preemption policies.

Federal Communications Commission.
Cecilia Sigmund,
Federal Register Liaison Officer.

[FR Doc. 2019-28181 Filed 12-30-19; 8:45 am]

BILLING CODE 6712-01-P